DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground Modified | Communities affected
Cook County, Illinois, and Incorporated Areas
Docket No.: FEMA-B-7735
Calumet Union Drainage Ditch | At confluence with Little Calumet River | +592 | Village of South Holland, City of Harvey, City of Markham, Unincorporated Areas of Cook County.
| 500 feet upstream of confluence with Calumet Union Drainage Ditch Southwest Branch | +608
Calumet Union Drainage Ditch Southwest Branch | At confluence with Calumet Union Drainage Ditch | +608 | City of Markham, Unincorporated Areas of Cook County.
| Approximately 1100 feet downstream of 167th Street | +608
Deer Creek | At confluence with Thorn Creek | +616 | Village of Glenwood, Unincorporated Areas of Cook County.
| At confluence of Third Creek, downstream of Cottage Grove Avenue | +621
Farmer's Creek | At pump station flood wall, 150 feet downstream of Busey Highway | +630 | City of Des Plaines, Unincorporated Areas of Cook County.
| Approximately 1000 feet upstream of Emerson Street | +633
Higgins Creek | Just downstream of Willie Road | +655 | City of Des Plaines, Unincorporated Areas of Cook County.
| Just downstream of Hamilton Road | +659
Higgins Creek Tributary A | Just downstream of Interstate 90 | +659 | City of Des Plaines, Unincorporated Areas of Cook County, Village of Elk Grove Village.
| 80 feet upstream of Higgins Road | +665
Higgins Creek Tributary B | Confluence with Higgins Creek Tributary A | +659 | Unincorporated Areas of Cook County, Village of Elk Grove Village.
| Just downstream of Elmhurst Road | +660
Little Calumet River | At confluence with Calumet Sag Channel | +585 | Village of South Holland, City of Blue Island, City of Calumet City, City of Harvey, Unincorporated Areas of Cook County, Village of Dixmoor, Village of Dolton, Village of Lansing, Village of Riverdale.
| Illinois—Indiana State Line | +596
Midlothian Creek | At confluence with Little Calumet River | +587 | City of Blue Island.
| 200 feet upstream of Chatham Street | +589
North Creek | At confluence with Thorn Creek | +606 | Unincorporated Areas of Cook County.
| Just downstream of Calumet Expressway | +607
Poplar Creek Tributary A | Just upstream of Higgins Road | +809 | Village of Hoffman Estates.
| Just downstream of Greenspoint Parkway | +813
Prairie Creek | At confluence with Farmer's Creek | +631 | City of Des Plaines, City of Park Ridge, Unincorporated Areas of Cook County, Village of Niles.
| Just downstream of Greenwood Road | +643
Thorn Creek | At confluence with Little Calumet River | +595 | Village of South Holland, City of Calumet City, Unincorporated Areas of Cook County, Village of Glenwood, Village of Thornton.
| Approximately 500 feet upstream of the confluence with Deer Creek | +616
Weller Creek | Approximately 570 feet downstream of Wisconsin Central Railroad | +637 | Village of Mount Prospect, City of Des Plaines.
| At downstream side of Central Road | +664
* National Geodetic Vertical Datum.
+ North American Vertical Datum.
# Depth in feet above ground.
ADDRESSES
City of Blue Island
Maps are available for inspection at Building Department, 13049 Greenwood Avenue, Blue Island, IL 60406.
City of Calumet City
Maps are available for inspection at Inspectional Services Department, 687 Wentworth Road, Calumet City, IL 60409.
City of Des Plaines
Maps are available for inspection at City of Des Plaines Civic Center, 1420 Miner St, Des Plaines, IL 60016.
City of Harvey
Maps are available for inspection at Harvey City Hall, Planning and Development Center, 15320 Broadway Avenue, Harvey, IL 60426.
City of Markham
Maps are available for inspection at Markham City Hall, 16313 South Kedzie Parkway, Markham, IL 60426.
City of Park Ridge
Maps are available for inspection at Public Works Department, 505 Butler Place, Park Ridge, IL 60068.
Unincorporated Areas of Cook County
Maps are available for inspection at Cook County Building and Zoning Department, 69 West Washington, Suite 2830, Chicago, IL 60602.
Village of Dixmoor
Maps are available for inspection at 170 West 145th Street, Dixmoor, IL 60419.
Village of Dolton
Maps are available for inspection at Dolton Village Hall, Building Department, 14014 Park Avenue, Dolton, IL 60419.
Village of Elk Grove Village
Maps are available for inspection at Engineering and Community Development Department, 901 Wellington Ave, Elk Grove Village, IL 60007.
Village of Glenwood
Maps are available for inspection at Glenwood Building Department, 13 South Rebecca Street, Glenwood, IL 60425.
Village of Hoffman Estates
Maps are available for inspection at Hoffman Estates Development Services Department, 1900 Hassell Rd., Hoffman Estates, IL 60169.
Village of Lansing
Maps are available for inspection at Lansing Building Department, 18200 Chicago Avenue, Lansing, IL 60438.
Village of Mount Prospect
Maps are available for inspection at Public Works Department, Engineering Division, 1700 West Central Road, Mount Prospect, IL 60056.
Village of Niles
Maps are available for inspection at Niles Public Works Department, 6849 West Touhy Avenue, Niles, IL 60714.
Village of Riverdale
Maps are available for inspection at Village Hall, Office of Community and Economic Development, 157 West 144th Street, Riverdale, IL 60827.
Village of South Holland
Maps are available for inspection at Village Planning & Development Department, 16226 Wausau Avenue, South Holland, IL 60473.
Village of Thornton
Maps are available for inspection at Village Hall, 115 E Margaret St, Thornton, IL 60476.
Miami County, Kansas and Incorporated Areas
Docket No.: FEMA-P-7913
Bull Creek | Approximately 480 feet upstream of the confluence with the Marais Des Cygnes River | +837 | City of Paola, Miami County (Unincorporated Areas).
| Approximately 11,250 feet upstream of the confluence of Ten Mile Creek | +874
Hickory Creek | At the confluence with Bull Creek | +857 | City of Paola, Miami County (Unincorporated Areas).
| Approximately 185 feet downstream of South East Street | +867
Marais Des Cygnes River | At the confluence of Pottawatomie Creek | +858 | City of Osawatomie, Miami County (Unincorporated Areas).
| Approximately 6,800 feet upstream of Eighth Street | +863
Middle Creek | At the southern county boundary | +823 | Miami County (Unincorporated Areas).
| Approximately 2,880 feet upstream of Jingo Road | +946
M.K.T. Tributary to Bull Creek | At the confluence with Bull Creek | +864 | City of Paola, Miami County (Unincorporated Areas).
| Approximately 40 feet downstream of the Union Pacific Railroad | +867
North Wea Creek | At the confluence with South Wea Creek | +889 | Miami County (Unincorporated Areas).
| At West 215th Street | +1,073
Pottawatomie Creek | At the confluence with Marais Des Cygnes River | +859 | City of Osawatomie, Miami County (Unincorporated Areas).
| Approximately 4,920 feet upstream of the confluence with Marais Des Cygnes River | +859
South Wea Creek | At the confluence with Bull Creek | +854 | City of Louisburg, City of Paola, Miami County (Unincorporated Areas).
| At Metcalf Road | +983
Sweetwater Creek | At the confluence with Ten Mile Creek | +921 | Miami County (Unincorporated Areas).
| At West 215th Street | +987
Ten Mile Creek | At the confluence with Bull Creek | +871 | Miami County (Unincorporated Areas).
| At West 215th Street | +1,048
Tributary to Hickory Creek | At the confluence with Hickory Creek | +857 | City of Paola.
| Approximately 30 feet downstream of East Osage Street. | +858
* National Geodetic Vertical Datum.
+ North American Vertical Datum.
# Depth in feet above ground.
ADDRESSES
City of Louisburg, Miami County, Kansas
Maps are available for inspection at City Hall, 5 South Peoria, Suite 102, Louisburg, Kansas.
City of Osawatomie, Miami County, Kansas
Maps are available for inspection at City Hall, 439 Main Street, Osawatomie, Kansas.
City of Paola, Miami County, Kansas
Maps are available for inspection at City Hall, 19 East Peoria, Paola, Kansas.
Unincorporated Areas of Miami County, Kansas
Maps are available for inspection at Miami County Administration Building, 201 South Pearl Street, Suite 201, Paola, Kansas.
Anson County, North Carolina and Incorporated Areas
Docket Nos.: FEMA-D-7806 and FEMA-D-7826
Bailey Creek | At the confluence with North Fork Jones Creek | +257 | Unincorporated Areas of Anson County.
| At the confluence of Brush Fork and Reedy Fork | +282
Bell Creek | At the confluence with Deadfall Creek | +283 | Unincorporated Areas of Anson County.
| Approximately 1.0 mile upstream of Little Huntley Road (State Road 1217) | +308
Big Branch | At the confluence with Lanes Creek | +333 | Unincorporated Areas of Anson County.
| Approximately 1,450 feet upstream of Birmingham Road (State Road 1436) | +343
Big Branch North | At the confluence with Cribs Creek | +256 | Unincorporated Areas of Anson County.
| Approximately 0.4 mile upstream of the confluence with Cribs Creek | +271
Black Jack Branch | At the confluence with Brown Creek | +291 | Unincorporated Areas of Anson County.
| Approximately 1.2 miles upstream of Lower White Store Road (State Road 1252) | +320
Blackwell Branch | Approximately 1,000 feet upstream of the confluence with Lanes Creek | +365 | Unincorporated Areas of Anson County.
| At the confluence of Caudle Branch and Maness Branch | +424
Boles Creek | At the confluence with Deadfall Creek | +293 | Unincorporated Areas of Anson County.
| Approximately 550 feet downstream of Little Huntley Road (State Road 1217) | +301
Brown Creek | At the confluence with Pee Dee River | +213 | Unincorporated Areas of Anson County, Town of Polkton.
| Approximately 0.9 mile upstream of Okey High Road (State Road 1229) | +335
Brown Creek Tributary 1 | At the confluence with Brown Creek | +251 | Unincorporated Areas of Anson County, Town of Polkton.
| Approximately 1,450 feet upstream of Barrass Street | +310
Brown Creek Tributary 2 | At the confluence with Brown Creek | +255 | Town of Polkton.
| Approximately 480 feet upstream of East Freemont Street | +313
Brown Creek Tributary 3 | At the confluence with Brown Creek | +296 | Unincorporated Areas of Anson County.
| Approximately 0.9 mile upstream of the confluence with Brown Creek | +309
Brown Creek Tributary 4 | At the confluence with Brown Creek | +303 | Unincorporated Areas of Anson County.
| Approximately 1.0 mile upstream of the confluence of Brown Creek Tributary 4A | +329
Brown Creek Tributary 4A | At the confluence with Brown Creek Tributary 4 | +311 | Unincorporated Areas of Anson County.
| Approximately 1.1 miles upstream of the confluence with Brown Creek Tributary 4 | +334
Brush Fork | At the confluence with Bailey Creek and Reedy Fork | +282 | Unincorporated Areas of Anson County, Town of Wadesboro.
| Approximately 360 feet downstream of South Park Road | +361
Brush Fork Tributary 1 | At the confluence with Brush Fork | +315 | Town of Wadesboro.
| Approximately 0.5 mile upstream of East Caswell Street | +344
Brush Fork Tributary 2 | At the confluence with Brush Fork | +324 | Town of Wadesboro.
| Approximately 80 feet downstream of U.S. 52 Highway South | +351
Brush Fork Tributary 3 | At the confluence with Brush Fork | +328 | Town of Wadesboro.
| Approximately 1,820 feet upstream of Wortham Street | +341
Buffalo Creek | At the confluence with Pee Dee River | +217 | Unincorporated Areas of Anson County.
| Approximately 430 feet upstream of Railroad | +259
Buffalo Creek South | At the confluence with Pee Dee River | +189 | Unincorporated Areas of Anson County.
| Approximately 650 feet downstream of Clark Mountain Road (State Road 1744) | +216
Buffalo Creek Tributary 1 | At the confluence with Buffalo Creek | +218 | Unincorporated Areas of Anson County.
| Approximately 610 feet upstream of Pinkston River Road (State Road 1627) | +220
Cabin Branch | At the confluence with Brown Creek | +229 | Unincorporated Areas of Anson County.
| Approximately 1,060 feet upstream of Jacks Branch Road (State Road 1637) | +249
Camp Branch | At the confluence with Rocky River | +220 | Unincorporated Areas of Anson County.
| Approximately 780 feet upstream of Railroad | +267
Camp Branch Tributary 1 | At the confluence with Camp Branch | +220 | Unincorporated Areas of Anson County.
| Approximately 1,540 feet downstream of US 52 Highway North | +238
Canal Branch | At the confluence with Palmetto Branch | +217 | Unincorporated Areas of Anson County, Town of Ansonville.
| Approximately 80 feet upstream of Threadgill Street | +310
Canebreak Branch | At the confluence with Lanes Creek | +332 | Unincorporated Areas of Anson County.
| Approximately 530 feet upstream of Johnson Road (State Road 1435) | +342
Caudle Branch | At the confluence with Blackwell Branch and Maness Branch | +424 | Unincorporated Areas of Anson County.
| Approximately 1,000 feet upstream of Stegall Road (State Road 1407) | +430
Cedar Branch | At the confluence with Lanes Creek | +330 | Unincorporated Areas of Anson County.
| Approximately 800 feet upstream of Bill Curlee Road (State Road 1415) | +337
Cedar Creek | At the confluence with Pee Dee River | +210 | Unincorporated Areas of Anson County.
| Approximately 0.6 mile upstream of the confluence of Cedar Creek Tributary 7 | +323
Cedar Creek Tributary 1 | At the confluence with Cedar Creek | +210 | Unincorporated Areas of Anson County.
| Approximately 0.8 mile upstream of the confluence with Cedar Creek | +221
Cedar Creek Tributary 2 | At the confluence with Cedar Creek | +210 | Unincorporated Areas of Anson County.
| Approximately 0.5 mile upstream of the confluence with Cedar Creek | +221
Cedar Creek Tributary 3 | At the confluence with Cedar Creek | +212 | Unincorporated Areas of Anson County.
| Approximately 0.9 mile upstream of the confluence with Cedar Creek | +231
Cedar Creek Tributary 4 | At the confluence with Cedar Creek | +251 | Unincorporated Areas of Anson County.
| Approximately 0.5 mile upstream of the confluence with Cedar Creek | +261
Cedar Creek Tributary 5 | At the confluence with Cedar Creek | +278 | Unincorporated Areas of Anson County.
| Approximately 680 feet upstream of Doc Wyatt Road (State Road 1728) | +286
Cedar Creek Tributary 6 | At the confluence with Cedar Creek | +279 | Unincorporated Areas of Anson County.
| Approximately 0.8 mile upstream of Cox Road (State Road 1711) | +310
Cedar Creek Tributary 7 | At the confluence with Cedar Creek | +292 | Unincorporated Areas of Anson County.
| Approximately 0.4 mile upstream of the confluence with Cedar Creek | +310
Clay Creek Tributary | At the North Carolina/South Carolina State boundary | +337 | Unincorporated Areas of Anson County.
| Approximately 0.4 mile upstream of the North Carolina/South Carolina State boundary | +341
Cranes Branch | At the confluence with Brown Creek | +240 | Unincorporated Areas of Anson County.
| Approximately 0.6 mile upstream of Cameron Briley Road (State Road 1429) | +261
Cribs Creek | At the confluence with Rocky River | +256 | Unincorporated Areas of Anson County.
| Approximately 0.7 mile upstream of NC 742 Highway North | +383
Culpepper Creek | At the confluence with Goulds Fork | +271 | Unincorporated Areas of Anson County, Town of Wadesboro.
| Approximately 1.4 miles upstream of Avery Road | +307
Deadfall Creek | At the North Carolina/South Carolina State boundary | +244 | Unincorporated Areas of Anson County.
| Approximately 660 feet downstream of Long Pine Church Road (State Road 1220) | +301
Derita Creek | At the confluence with Brush Fork | +314 | Unincorporated Areas of Anson County, Town of Wadesboro.
| Approximately 1,460 feet upstream of Railroad | +355
Flat Fork | At the confluence with Brown Creek | +213 | Unincorporated Areas of Anson County.
| Approximately 1.5 miles upstream of the confluence with Flat Fork Tributary 1 | +253
Flat Fork Tributary 1 | At the confluence with Flat Fork | +230 | Unincorporated Areas of Anson County.
| Approximately 2.2 miles upstream of the confluence with Flat Fork | +287
Goulds Fork | At the confluence with Brown Creek | +222 | Unincorporated Areas of Anson County, Town of Wadesboro.
| Approximately 0.9 mile upstream of White Store Road (State Road 1205) | +330
Goulds Fork Tributary 1 | At the confluence with Goulds Fork | +245 | Unincorporated Areas of Anson County.
| Approximately 0.5 mile downstream of NC 742 Highway North | +279
Goulds Fork Tributary 2 | At the confluence with Goulds Fork | +269 | Unincorporated Areas of Anson County, Town of Wadesboro.
| Approximately 0.5 mile upstream of Avery Road | +286
Grindstone Branch | At the confluence with Goulds Fork | +237 | Unincorporated Areas of Anson County, Town of Wadesboro.
| Approximately 0.7 mile upstream of Powe Street (State Road 1655) | +290
Grindstone Branch Tributary 1 | At the confluence with Grindstone Branch | +272 | Unincorporated Areas of Anson County.
| Approximately 1,820 feet upstream of Airport Road (State Road 1645) | +304
Hale Creek | At the confluence with Jones Creek | +192 | Unincorporated Areas of Anson County.
| Approximately 1,690 feet downstream of Knotts Road (State Road 1807) | +260
Hale Creek Tributary 1 | At the confluence with Hale Creek | +213 | Unincorporated Areas of Anson County.
| Approximately 0.4 mile upstream of the confluence with Hale Creek | +231
Hale Creek Tributary 2 | At the confluence with Hale Creek | +233 | Unincorporated Areas of Anson County.
| Approximately 0.5 mile upstream of the confluence with Hale Creek | +248
Hurricane Creek | At the confluence with Brown Creek | +213 | Unincorporated Areas of Anson County.
| Approximately 1.3 miles upstream of Dennis Road (State Road 1649) | +233
Island Creek | At the confluence with Pee Dee River | +139 | Unincorporated Areas of Anson County.
| Approximately 1.0 mile upstream of NC Highway 145 | +225
Island Creek Tributary 1 | At the confluence with Island Creek | +139 | Unincorporated Areas of Anson County.
| Approximately 0.7 mile upstream of the confluence with Island Creek | +162
Jacks Branch (into Brown Creek) | At the confluence with Brown Creek | +224 | Unincorporated Areas of Anson County.
| Approximately 700 feet upstream of Mount Vernon Road (State Road 1638) | +250
Jenkins Branch | At the confluence with Pee Dee River | +190 | Unincorporated Areas of Anson County.
| Approximately 1.6 miles upstream of the confluence with Pee Dee River | +216
Jones Creek | At the confluence with Pee Dee River | +128 | Unincorporated Areas of Anson County.
| At the confluence of North Fork Jones Creek and South Fork Jones Creek | +230
Jones Creek Tributary 1 | At the confluence with Jones Creek | +129 | Unincorporated Areas of Anson County.
| Approximately 0.9 mile upstream of the confluence with Jones Creek | +150
Kelly Branch | At the confluence with Brown Creek | +270 | Unincorporated Areas of Anson County.
| Approximately 0.6 mile upstream of Lower White Store Road (State Road 1252) | +302
Lacey Branch | At German Hill Road (State Road 1404) | +377 | Unincorporated Areas of Anson County.
| Approximately 200 feet upstream of Pulpwood Yard Road (State Road 1401) | +446
Lampley Branch | At the confluence with North Fork Jones Creek | +285 | Unincorporated Areas of Anson County, Town of Wadesboro.
| Approximately 0.9 mile upstream of Burns Street (State Road 1401) | +429
Lanes Creek | At the confluence with Rocky River | +248 | Unincorporated Areas of Anson County, Town of Peachland.
| Approximately 1.5 miles upstream of confluence of Beaverdam Creek | +416
Lanes Creek Tributary 1 | At the confluence with Lanes Creek | +248 | Unincorporated Areas of Anson County.
| Approximately 0.6 mile upstream of the confluence with Lanes Creek | +249
Lanes Creek Tributary 2 | At the confluence with Lanes Creek | +248 | Unincorporated Areas of Anson County.
| Approximately 0.5 mile upstream of the confluence with Lanes Creek | +275
Lanes Creek Tributary 3 | At the confluence with Lanes Creek | +256 | Unincorporated Areas of Anson County.
| Approximately 0.4 mile upstream of the confluence with Lanes Creek | +264
Lanes Creek Tributary 4 | At the confluence with Lanes Creek | +315 | Unincorporated Areas of Anson County.
| Approximately 1,880 feet upstream of the confluence with Lanes Creek | +328
Lanes Creek Tributary 5 | At the confluence with Lanes Creek | +340 | Unincorporated Areas of Anson County.
| Approximately 1,400 feet upstream of the confluence with Lanes Creek | +354
Ledbetter Branch | At the confluence with Brown Creek | +255 | Unincorporated Areas of Anson County, Town of Polkton.
| Approximately 510 feet upstream of West Polk Street (State Road 1121) | +298
Ledbetter Branch Tributary 1 | At the confluence with Ledbetter Branch | +284 | Town of Polkton.
| Approximately 570 feet upstream of West Polk Street (State Road 1121) | +309
Leggett Branch | At the confluence with Little Brown Creek | +308 | Unincorporated Areas of Anson County.
| Approximately 860 feet upstream of White Store Road (State Road 1121) | +335
Lick Creek | At the confluence with Brown Creek | +271 | Unincorporated Areas of Anson County.
| Approximately 0.4 mile upstream of Lowery Road (State Road 1244) | +314
Little Brown Creek | At the confluence with Brown Creek | +251 | Unincorporated Areas of Anson County, Town of Polkton.
| Approximately 340 feet downstream of White Store Road (State Road 1228) | +330
Little Creek | At the confluence with Pee Dee River | +129 | Unincorporated Areas of Anson County.
| Approximately 100 feet downstream of Pit Road (State Road 1801) | +165
Little Creek North | At the confluence with Rocky River | +246 | Unincorporated Areas of Anson County.
| Approximately 400 feet upstream of Little Creek Road (State Road 1619) | +284
Little Creek Tributary 1 | At the confluence with Little Creek | +130 | Unincorporated Areas of Anson County.
| Approximately 1.1 miles upstream of the confluence with Little Creek | +163
Little Cribs Creek | At the confluence with Cribs Creek | +323 | Unincorporated Areas of Anson County.
| Approximately 0.5 mile upstream of the confluence with Cribs Creek | +337
Maness Branch | At the confluence with Caudle Branch and Blackwell Branch | +424 | Unincorporated Areas of Anson County.
| Approximately 0.3 mile upstream of Old Plank Road (State Road 1421) | +440
McCoy Creek | At the confluence with Pee Dee River | +149 | Unincorporated Areas of Anson County.
| Approximately 650 feet downstream of Blewett Falls Road (State Road 1745) | +180
Mill Creek | At the confluence with Pee Dee River | +123 | Unincorporated Areas of Anson County.
| Approximately 0.6 mile upstream of US Highway 52 | +253
Mill Creek Tributary 1 | At the confluence with Mill Creek | +241 | Unincorporated Areas of Anson County, Town of Morven
| Approximately 230 feet upstream of South White Oak Street | +364
North Fork | At the confluence with Lampley Branch | +386 | Town of Wadesboro.
| Approximately 550 feet downstream of NC 109 Highway South | +411
North Fork Jones Creek | At the confluence with Jones Creek and South Fork Jones Creek | +230 | Unincorporated Areas of Anson County.
| Approximately 0.4 mile upstream of NC 742 Highway South | +323
North Fork Jones Creek Tributary 1 | At the confluence with North Fork Jones Creek | +296 | Unincorporated Areas of Anson County.
| Approximately 0.4 mile upstream of the confluence with North Fork Jones Creek | +360
North Fork Smith Creek | At the confluence with Smith Creek | +189 | Unincorporated Areas of Anson County.
| Approximately 0.4 mile upstream of Dr. Sorrell Road (State Road 1741) | +214
Palmetto Branch | At the confluence with Brown Creek | +216 | Unincorporated Areas of Anson County.
| Approximately 0.5 mile upstream of Railroad | +248
Pee Dee River | Just downstream of the confluence with Whortenberry Creek | +109 | Unincorporated Areas of Anson County.
| At the confluence with Rocky River | +220
Pee Dee River Tributary 1 | At the confluence with Pee Dee River | +134 | Unincorporated Areas of Anson County.
| Approximately 0.8 mile upstream of the confluence with Pee Dee River | +147
Pee Dee River Tributary 2 | At the confluence with Pee Dee River | +146 | Unincorporated Areas of Anson County.
| Approximately 1.0 mile upstream of the confluence with Pee Dee River | +171
Pee Dee River Tributary 3 | At the confluence with Pee Dee River | +194 | Unincorporated Areas of Anson County.
| Approximately 2.8 miles upstream of the confluence with Pee Dee River | +223
Pee Dee River Tributary 4 | At the confluence with Pee Dee River | +201 | Unincorporated Areas of Anson County.
| Approximately 200 feet downstream of Stanback Ferry Road (State Road 1703) | +213
Pinch Gut Creek | At the confluence with Brown Creek | +245 | Unincorporated Areas of Anson County.
| Approximately 1.0 mile upstream of the confluence of Pinch Gut Creek Tributary 2 | +293
Pinch Gut Creek Tributary 1 | At the confluence with Pinch Gut Creek | +245 | Unincorporated Areas of Anson County.
| Approximately 1.0 mile upstream of the confluence with Pinch Gut Creek | +257
Pinch Gut Creek Tributary 2 | At the confluence with Pinch Gut Creek | +270 | Unincorporated Areas of Anson County.
| Approximately 0.5 mile upstream of the confluence with Pinch Gut Creek | +281
Pressley Creek | At the confluence with Pee Dee River | +217 | Unincorporated Areas of Anson County.
| Approximately 1,450 feet upstream of Pinkston River Road (State Road 1627) | +223
Pressley Creek Tributary 1 | At the confluence with Pressley Creek | +217 | Unincorporated Areas of Anson County.
| Approximately 570 feet upstream of Pinkston River Road (State Road 1627) | +224
Reeder Branch | At the confluence with Pee Dee River | +190 | Unincorporated Areas of Anson County.
| Approximately 1.7 miles upstream of the confluence with Pee Dee River | +220
Reedy Fork | At the confluence with Bailey Creek and Brush Fork | +282 | Unincorporated Areas of Anson County.
| Approximately 0.4 mile upstream of West Wall Street (State Road 1730) | +317
Rhoddy Creek | At the confluence with Deadfall Creek | +247 | Unincorporated Areas of Anson County.
| Approximately 1.0 mile upstream of the confluence with Deadfall Creek | +270
Richardson Creek | At the confluence with Rocky River | +259 | Unincorporated Areas of Anson County.
| Approximately 0.5 mile upstream of Blonnie Ross Road (State Road 1459) | +295
Rocky Branch | At the confluence with Lanes Creek | +346 | Unincorporated Areas of Anson County.
| Approximately 1,440 feet upstream of the confluence with Lanes Creek | +357
Rocky River | At the confluence with Pee Dee River | +220 | Unincorporated Areas of Anson County.
| At the Anson/Union County boundary | +302
Rocky River Tributary 13 | At the confluence with Rocky River | +250 | Unincorporated Areas of Anson County.
| Approximately 0.6 mile upstream of the confluence with Rocky River | +277
Rocky River Tributary 2 | At the confluence with Rocky River | +235 | Unincorporated Areas of Anson County.
| Approximately 0.6 mile upstream of the confluence with Rocky River | +237
Savannah Branch | At the North Carolina/South Carolina State boundary | +331 | Unincorporated Areas of Anson County.
| Approximately 0.4 mile upstream of the North Carolina/South Carolina State boundary | +336
Savannah Creek | At the confluence with Pee Dee River | +195 | Unincorporated Areas of Anson County.
| Approximately 1.6 miles upstream of Mills Peach Orchard Road (State Road 1742) | +293
Savannah Creek Tributary 1 | At the confluence with Savannah Creek | +208 | Unincorporated Areas of Anson County.
| Approximately 1,690 feet upstream of the confluence of Savannah Creek Tributary 1A | +217
Savannah Creek Tributary 1A | At the confluence with Savannah Creek Tributary 1 | +211 | Unincorporated Areas of Anson County.
| Approximately 1,680 feet upstream of the confluence with Savannah Creek Tributary 1 | +219
Savannah Creek Tributary 2 | At the confluence with Savannah Creek | +222 | Unincorporated Areas of Anson County.
| Approximately 0.4 mile upstream of the confluence with Savannah Creek | +231
Shaw Creek | At the confluence with Deadfall Creek | +281 | Unincorporated Areas of Anson County.
| Approximately 500 feet downstream of Union Church Road (State Road 1003) | +324
Smith Creek | At the confluence with Pee Dee River | +189 | Unincorporated Areas of Anson County.
| Approximately 2.4 miles upstream of the confluence of North Fork Smith Creek | +264
South Fork Jones Creek | At the confluence with Jones Creek and North Fork Jones Creek | +230 | Unincorporated Areas of Anson County.
| Approximately 1,350 feet upstream of NC 742 Highway South | +318
Swans Branch | At the confluence with Brown Creek | +255 | Unincorporated Areas of Anson County.
| Approximately 1.2 miles upstream of the confluence of Swans Branch Tributary 1 | +293
Swans Branch Tributary 1 | At the confluence with Swans Branch | +267 | Unincorporated Areas of Anson County.
| Approximately 550 feet upstream of U.S. 74 Highway West | +280
Thompson Creek | At the downstream North Carolina/South Carolina State boundary | +244 | Unincorporated Areas of Anson County.
| At the upstream North Carolina/South Carolina State boundary | +260
Turkey Top Creek | At the confluence with Pee Dee River | +205 | Unincorporated Areas of Anson County.
| Approximately 1,170 feet downstream of Stanback Ferry Road (State Road 1703) | +220
Turkey Top Creek Tributary 1 | At the confluence with Turkey Top Creek | +205 | Unincorporated Areas of Anson County.
| Approximately 1,250 feet upstream of Stanback Ferry Road (State Road 1703) | +219
Turkey Top Creek Tributary 2 | At the confluence with Turkey Top Creek | +208 | Unincorporated Areas of Anson County.
| Approximately 1,140 feet upstream of Stanback Ferry Road (State Road 1703) | +224
Whortenberry Creek | At the confluence with Pee Dee River | +110 | Unincorporated Areas of Anson County.
| Approximately 1,270 feet upstream of Sneedsboro Road (State Road 1829) | +139
Wide Mouth Branch | Approximately 0.5 mile upstream of the confluence with Lanes Creek | +395 | Unincorporated Areas of Anson County.
| At the Anson/Union County boundary | +406
* National Geodetic Vertical Datum.
+ North American Vertical Datum.
# Depth in feet above ground.
ADDRESSES
Town of Ansonville
Maps are available for inspection at the Ansonville Town Hall, 8778 U.S. Highway 52, Ansonville, North Carolina.
Town of Morven
Maps are available for inspection at the Morven Town Hall, 301 East Main Street, Morven, North Carolina.
Town of Peachland
Maps are available for inspection at the Peachland Town Hall, 25 West Passaic Street, Peachland, North Carolina.
Town of Polkton
Maps are available for inspection at the Polkton Town Hall, 35 West Polk Street, Polkton, North Carolina.
Town of Wadesboro
Maps are available for inspection at the Wadesboro Town Hall, 124-126 East Wade Street, Wadesboro, North Carolina.
Unincorporated Areas of Anson County
Maps are available for inspection at the Anson County Inspections and Permitting Department, 107 East Ashe Street, Wadesboro, North Carolina.
Lorain County, Ohio and Incorporated Areas
Docket No.: FEMA-B-7711
Battenhouse Ditch | Approximately 115 feet downstream of Middle Ridge Road | +714 | Lorain County (Unincorporated Areas).
| Albrecht Road | +783
Beaver Creek | Approximately 40 feet downstream of State Route 113 | +752 | Village of South Amherst.
| Approximately 1,000 feet upstream of Garfield Road | +799 | Lorain County (Unincorporated Areas).
Brighton-Camden Main Ditch | Approximately 600 feet upstream of confluence with East Fork Vermilion River | +871 | Lorain County (Unincorporated Areas).
| State Route 18 | +922
Carpenter Ditch | Approximately 390 feet downstream of Avon Belden Road | +772 | Lorain County (Unincorporated Areas).
| Approximately 90 feet upstream of Reed Road | +786
East Branch Beaver Creek | Northern City of Amherst corporate limits with the City of Lorain | +591 | City of Amherst.
| Eastern City of Amherst Corporate Limits with the City of Lorain | +593
Engle Ditch | Confluence with Battenhouse Ditch | +729 | Lorain County (Unincorporated Areas).
| Stang Road | +742
Fortune Ditch | Approximately 200 feet upstream of confluence with Willow Creek | +757 | City of North Ridgeville, Lorain County (Unincorporated Areas).
| Approximately 2,600 feet upstream of Avon Belden Road | +774
Gable Ditch | Approximately 400 feet upstream of the mouth at Lake Erie | +585 | City of Avon Lake.
| Approximately 40 feet downstream of Walker Road | +625
Heider Ditch | Approximately 80 feet upstream of Lake Road | +582 | City of Avon Lake.
| Approximately 50 feet downstream of Walker Road | +622
| Norfolk and Southern Railroad | +631
Heider Ditch Tributary No. 1 | Confluence with Heider Ditch | +620 | City of Avon Lake.
| Norfolk and Southern Railroad | +628
Lake Erie | Entire Lake Erie coastline from the western City of Avon Lake corporate limits to the confluence of Heider Ditch (USACE Reach S) | +576 | City of Avon Lake.
| Entire Lake Erie coastline from the confluence of Heider Ditch to the eastern City of Avon Lake corporate limits (USACE Reach R) | +576
| Entire Lake Erie coastline from the western City of Sheffield Lake corporate limits to the eastern City of Sheffield Lake corporate limits (USACE Reach S) | +576
| Entire Lake Erie coastline from the confluence of Black River to the eastern City of Lorain corporate limits (USACE Reach S) | +576
| Entire Lake Erie coastline from the western City of Vermilion corporate limits to eastern corporate limits (USACE Reach T) | +577
Martins Run | Mouth at Lake Erie | +576 | City of Lorain.
| City of Lorain corporate limits | +721
Phelom Ditch | Approximately 160 feet upstream of confluence with Carpenter Ditch | +777 | City of North Ridgeville, Lorain County (Unincorporated Areas).
| Approximately 1,200 feet upstream of the City of North Ridgeville corporate limits | +787
Plum Creek | Approximately 80 feet downstream of Pyle-South Amherst Road | +810 | City of Oberlin, Lorain County (Unincorporated Areas).
| US Route 20 | +830
Plum Creek—East | Sprague Road | +782 | Lorain County (Unincorporated Areas).
| Crocker Road | +826
Powdermaker Ditch | Approximately 1,220 feet upstream of the culvert entrance at Lake Road | +598 | City of Avon Lake.
| Approximately 2,320 feet upstream of the culvert entrance at Lake Road | +602
Ridgeway Ditch | Approximately 50 feet downstream of Case Road | +696 | City of North Ridgeville.
| Approximately 50 feet downstream of Bender Road | +739
Schroeder Ditch | Approximately 100 feet downstream of State Route 20 | +738 | Lorain County (Unincorporated Areas).
| Approximately 4,100 feet upstream of Russia Road | +779
* National Geodetic Vertical Datum.
+ North American Vertical Datum.
# Depth in feet above ground.
ADDRESSES
City of Amherst
Maps are available for inspection at 480 Park Avenue, Amherst, OH 44001.
City of Avon
Maps are available for inspection at 36080 Chester Road, Avon, OH 44011.
City of Avon Lake
Maps are available for inspection at City Hall, 150 Avon Belden Road, Avon Lake, OH 44012.
City of Elyria
Maps are available for inspection at 131 Court Street, Elyria, OH 44035.
Village of Grafton
Maps are available for inspection at 960 Main Street, Grafton, OH 44044.
Village of Kipton
Maps are available for inspection at 299 State Street, Kipton, OH 44049.
Town of La Grange
Maps are available for inspection at 355 South Center Street, LaGrange, OH 44050.
City of Lorain
Maps are available for inspection at Engineering Department, 4th Floor, 200 West Erie Avenue, Lorain, OH 44052.
City of North Ridgeville
Maps are available for inspection at 7307 Avon Belden Road, North Ridgeville, OH 44039.
City of Oberlin
Maps are available for inspection at 85 South Main Street, Oberlin, OH 44074.
Village of Rochester
Maps are available for inspection at 100 South Street, Rochester, OH 44090.
Village of Sheffield
Maps are available for inspection at 4480 Colorado Avenue, Sheffield Village, OH 44054.
City of Sheffield Lake
Maps are available for inspection at 4750 Richelieu Avenue, Sheffield Lake, OH 44054.
Village of South Amherst
Maps are available for inspection at 103 West Main Street, South Amherst, OH 44001.
City of Vermilion
Maps are available for inspection at 5511 Liberty Avenue, Vermilion, OH 44089.
Village of Wellington
Maps are available for inspection at 115 Willard Memorial Square, Wellington, OH 44090.
Lorain County (Unincorporated Areas)
Maps are available for inspection at 226 Middle Avenue, Community Development Department, Elyria, OH 44035.
Columbia County, Pennsylvania, and Incorporated Areas
Docket No.: FEMA-B-7700
Briar Creek | Approximately 130 feet downstream of U.S. Route 11 (West Front Street) | +492 | Borough of Briar Creek.
| Approximately 2350 feet downstream of U.S. Route 11 (West Front Street) | +492
Catawissa Creek | Approximately at 1100 feet downstream of Second Street | +476 | Borough of Catawissa.
| Approximately 200 feet upstream of Numidia Drive | +476
Fishing Creek | Approximately 2180 feet downstream of Covered Bridge No. 56 | +479 | Town of Bloomsburg, Township of Montour.
| Approximately 2800 feet upstream of Red Mill Road | +480
Hemlock Creek | Approximately 650 feet downstream of Legislative Route 19010 (Perry Avenue) | +479 | Township of Hemlock, Township of Montour.
| Approximately at 510 feet upstream of Legislative Route 19100 (Perry Avenue) | +480
Kinney Run | Approximately at 900 feet downstream of the confluence with Tributary No. 1 to Kinney Run, at Scott Township corporate limit | +481 | Township of Scott.
| Approximately at 250 feet upstream of the confluence with Tributary No. 2 to Kinney Run | +481
Roaring Creek | Approximately 1320 feet downstream of Legislative Route 19011 (Mount Zion Rd.) | +470 | Township of Franklin.
| Approximately 1020 feet upstream of Legislative Route 19011 (Mount Zion Rd.) | +470
Susquehanna River | Approximately 3.5 miles downstream of Rupert Drive | +470 | Borough of Berwick, Borough of Briar Creek, Borough of Catawissa, Town of Bloomsburg, Township of Catawissa, Township of Franklin, Township of Main, Township of Mifflin, Township of Montour, Township of Scott, Township of South Centre.
| Approximately 1200 feet upstream of Route 93 | +500
Tributary No. 1 to Catawissa Creek | Approximately 240 feet downstream of State Route 42 | +476 | Borough of Catawissa.
| Approximately 85 feet downstream of State Route 42 | +476
Tributary No. 1 to Kinney Run | Approximately 1530 feet downstream of U.S. Route 11 (New Berwick HWY) | +481 | Township of Scott.
| Approximately 638 feet downstream of U.S. Route 11 (New Berwick HWY) | +481
Tributary No. 10 to Susquehanna River | Approximately 450 feet downstream of Old Berwick Road | +483 | Township of Scott.
| Approximately 590 feet upstream of Tractor Road | +483
Tributary No. 11 to Susquehanna River | Approximately 960 feet downstream of Old Berwick Road | +485 | Township of South Centre.
| Just upstream of Old Berwick Road | +485
Tributary No. 12 to Susquehanna River | Approximately 1508 feet downstream of Legislative Route 19117 (Old Berwick Road) | +487 | Township of South Centre.
| Approximately 1130 feet downstream of Legislative Route 19117 (Old Berwick Road) | +487
Tributary No. 13 to Susquehanna | Approximately 980 feet downstream of State Road 339 | +489 | Township of Mifflin.
| Approximately 600 feet downstream of State Road 339 | +489
* National Geodetic Vertical Datum.
# Depth in feet above ground.
+ North American Vertical Datum.
ADDRESSES
Borough of Berwick
Maps are available for inspection at 344 Market Street, Berwick, PA 18603.
Borough of Briar Creek
Maps are available for inspection at 6029 Park Road, Berwick, PA 18603.
Borough of Catawissa
Maps are available for inspection at 307 Main Street, Catawissa, PA 17820.
Township of Hemlock
Maps are available for inspection at 26 Firehall Road, Bloomsburg, PA 17815.
Town of Bloomsburg
Maps are available for inspection at 301 East Second Street, Bloomsburg, PA 17815.
Township of Catawissa
Maps are available for inspection at 153 Old Reading Road, Catawissa, PA 17820.
Township of Franklin
Maps are available for inspection at 277 Long Woods Road, Catawissa, PA 17820.
Township of Main
Maps are available for inspection at 345 Church Road, Bloomsburg, PA 17815.
Township of Mifflin
Maps are available for inspection at P.O. Box 359, Mifflinville, PA 18631.
Township of Montour
Maps are available for inspection at 195 Rupert Drive, Bloomsburg, PA 17815.
Moody County, South Dakota, and Incorporated Areas
Docket Nos.: FEMA-B-7734 & D-7818
Big Sioux River | Just upstream of County Highway 32 | +1532 | Unincorporated Areas of Moody County, City of Flandreau.
| 2500 feet upstream of First Avenue | +1543
* National Geodetic Vertical Datum.
+ North American Vertical Datum.
# Depth in feet above ground.
ADDRESSES
City of Flandreau
Maps are available for inspection at 1005 W. Elm Avenue, Planning and Zoning Department, Flandreau, SD 57028.
Unincorporated Areas of Moody County
Maps are available for inspection at 101 E. Pipestone Avenue, Suite E, Flandreau, SD 57028.
Burnett County, Wisconsin, and Incorporated Areas
Docket No.: FEMA-B-7704
Austin Lake | Austin Lake | +966 | Burnett County (Unincorporated Areas).
Big Doctor Lake | Big Doctor Lake | +987 | Village of Siren, Burnett County (Unincorporated Areas).
Big McKenzie Lake | Big McKenzie Lake | +990 | Burnett County (Unincorporated Areas).
Birch Island Lake | Birch Island Lake | +995 | Burnett County (Unincorporated Areas).
Clam Lake Flowage | Clam Lake Flowage | +905 | Burnett County (Unincorporated Areas).
Danbury Flowage | Danbury Flowage | +932 | Burnett County (Unincorporated Areas).
Devils Lake | Devils Lake | +965 | Burnett County (Unincorporated Areas).
Dunham Lake | Dunham Lake | +978 | Burnett County (Unincorporated Areas).
Lily Lake | Lily Lake | +996 | Burnett County (Unincorporated Areas).
Little Yellow Lake | Little Yellow Lake | +933 | Burnett County (Unincorporated Areas).
Long Lake (T38NR16WS16) | Long Lake (T38NR16WS16) | +962 | Burnett County (Unincorporated Areas).
Lower Clam Lake | Lower Clam Lake | +956 | Burnett County (Unincorporated Areas).
Lost Lake #1 | Lost Lake #1 | +993 | Burnett County (Unincorporated Areas).
Lost Lake #2, #3, #4 | Lost Lake #2, #3, #4 | +992 | Burnett County (Unincorporated Areas).
Middle McKenzie Lake | Middle McKenzie Lake | +989 | Burnett County (Unincorporated Areas).
Mud Lake | Mud Lake | +965 | Burnett County (Unincorporated Areas).
Nickaboyne Lake | Nickaboyne Lake | +994 | Burnett County (Unincorporated Areas).
Tabor Lake | Tabor Lake | +942 | Burnett County (Unincorporated Areas).
Webb Lake | Webb Lake | +941 | Burnett County (Unincorporated Areas).
Wood River | Approximately 950 feet downstream of Cross Town Road | +915 | Burnett County (Unincorporated Areas).
| Downstream of County Highway Y | +918
Yellow Lake | Yellow Lake | +933 | Burnett County (Unincorporated Areas).
Yellow River | At confluence with the St. Croix River | +873 | Village of Webster, Burnett County (Unincorporated Areas).
| Approximately 820 feet upstream of Yellow River Road | +999
* National Geodetic Vertical Datum.
+ North American Vertical Datum.
# Depth in feet above ground.
ADDRESSES
Burnett County (Unincorporated Areas)
Maps are available for inspection at Burnett County Department of Planning and Zoning, 7410 Co Rd K, Siren, WI 54872.
Village of Siren
Maps are available for inspection at Village Hall, 24049 1st Ave. N., Siren, WI 54872.
Village of Webster
Maps are available for inspection at Village Hall, 7505 Main St., Webster, WI 54893.
Rock County, Wisconsin and Incorporated Areas
Docket No.: FEMA-B-7705
Allen Creek | 170 feet downstream of Highway 213/59 | *871 | City of Evansville, Rock County (Unincorporated Areas).
| At Lake Leota Dam | *903
Bass Creek | At Highway 11 | *801 | Village of Footville, Rock County (Unincorporated Areas).
| At W. Dorner Road | *814
Blackhawk Creek | Upstream face of Highway 14 bridge | *838 | Rock County (Unincorporated Areas).
| 500 feet upstream of S. Milton Shopiere Rd | *877
East Fork Raccoon Creek | 1 mile downstream from W. Saint Lawrence Ave | *746 | Rock County (Unincorporated Areas).
| W. Spring Creek Rd | *770
Fisher Creek | At mouth at Rock River | *761 | City of Janesville, Rock County (Unincorporated Areas).
| 2100 feet upstream of N. Little Rd | *969
Greenbelt Tributary 1 | At mouth at Blackhawk Creek | *808 | City of Janesville.
| Just downstream of Sandhill Dr | *878
Greenbelt Tributary 2 | At mouth at Greenbelt Tributary 4 | *851 | City of Janesville, Rock County (Unincorporated Areas).
| 470 feet upstream of E. Milwaukee St | *873
Greenbelt Tributary 3 | At mouth at Greenbelt Tributary 1 | *834 | City of Janesville, Rock County (Unincorporated Areas).
| ½ mile upstream of Saratoga Dr | *877
Greenbelt Tributary 4 | At mouth at Greenbelt Tributary 1 | *828 | City of Janesville, Rock County (Unincorporated Areas).
| 350 feet upstream of County Highway A | *880
Greenbelt Tributary 5 | At mouth at Greenbelt Tributary 4 | *829 | City of Janesville, Rock County (Unincorporated Areas).
| 600 feet upstream of Highway 14 | *882
Markham Creek | At mouth at Rock River | *760 | City of Janesville, Rock County (Unincorporated Areas).
| 2100 feet upstream of W. Hanover Rd | *819
Morningside Tributary | At mouth at Spring Brook-Janesville | *808 | City of Janesville.
| Just downstream of Humes Rd | *877
Raccoon Creek | 1 mile downstream from W. Saint Lawrence Ave | *742 | Rock County (Unincorporated Areas).
| Just upstream of Highway 81 | *773
Rock River | State line 70 feet downstream of Shirland Ave | *738 | City of Janesville, City of Beloit, Rock County (Unincorporated Areas).
| At Lake Koshkonong | *785
Saunders Creek | At mouth at Rock River | *783 | City of Edgerton, Rock County (Unincorporated Areas).
| At County Boundary approx. 1¾ miles upstream of pedestrian bridge at Chamberlain and Blaine St | *822
Spring Brook-Beloit | At mouth at Turtle Creek | *764 | City of Beloit, Rock County (Unincorporated Areas).
| 60 feet upstream of Clinton Corners Rd | *917
Unnamed Tributary 1 to Raccoon Creek | At mouth at Raccoon Creek | *761 | Rock County (Unincorporated Areas).
| W. Beloit Newark Rd | *804
Unnamed Tributary 2 to Raccoon Creek | Mouth at Unnamed Tributary 1 to Raccoon Creek | *763 | Rock County (Unincorporated Areas).
| W. Beloit Newark Rd | *827
Unnamed Tributary 1 to Rock River | At mouth at Rock River | *754 | Rock County (Unincorporated Areas).
| At County Highway G | *780
Unnamed Tributary to Blackhawk Creek | At mouth at Blackhawk Creek | *860 | Rock County (Unincorporated Areas).
| Just downstream of N. Tarrant Rd | *887
Unnamed Tributary to E. Fork Raccoon Creek | At mouth at East Fork Raccoon Creek | *754 | Rock County (Unincorporated Areas).
| 300 feet upstream of County Highway Q | *818
Unnamed Tributary in Turtle Township | 1.4 miles downstream from Highway 67 bridge | *791 | Rock County (Unincorporated Areas).
| 400 feet downstream from Clinton Corners Rd | *920
* National Geodetic Vertical Datum.
+ North American Vertical Datum.
# Depth in feet above ground.
ADDRESSES
Rock County (Unincorporated Areas)
Maps are available for inspection at Rock County Department of Planning Development, 51 South Main Street, Janesville, WI 53545.
City of Beloit
Maps are available for inspection at Engineering Department, 100 State St., Beloit, WI 53511.
City of Edgerton
Maps are available for inspection at City Hall, 12 Albion St., Edgerton, WI 53534.
City of Evansville
Maps are available for inspection at City Hall, 31 South Madison St., Evansville, WI 53536.
City of Janesville
Maps are available for inspection at City Hall, 18 N. Jackson St., Janesville, WI 53547-5005.
Village of Footville
Maps are available for inspection at Village Hall, 156 Depot St., Footville, WI 53537.

(Catalog of Federal Domestic Assistance No. 97.022, “Flood Insurance.”)

Dated: February 26, 2008.
David I. Maurstad,
Federal Insurance Administrator of the National Flood Insurance Program, Department of Homeland Security, Federal Emergency Management Agency.

[FR Doc. E8-4626 Filed 3-7-08; 8:45 am]

BILLING CODE 9110-12-P